SMALL BUSINESS ADMINISTRATION

[Declaration of Disaster #3457]

State of Mississippi

Pearl River County and the contiguous counties of Forrest, Hancock, Harrison, Lamar, Marion and Stone in the State of Mississippi; and St. Tammany and Washington Parishes in the State of Louisiana constitute a disaster area due to damages caused by severe storms and straight line winds that occurred on October 29, 2002. Applications for loans for physical damage as a result of this disaster may be filed until the close of business on January 3, 2003 and for economic injury until the close of business on August 4, 2003 at the address listed below or other locally announced locations:

U.S. Small Business Administration, Disaster Area 2 Office, One Baltimore Place, Suite 300, Atlanta, GA 30308.

The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 345711 for Mississippi and 345811 for Louisiana. The number assigned for economic injury is 9S4600 for Mississippi and 9S4700 for Louisiana.

(Catalog of Federal Domestic Assistance Program Nos. 59002 and 59008.)
Dated: November 4, 2002.
Hector V. Barreto,
Administrator.

[FR Doc. 02-28685 Filed 11-8-02; 8:45 am]

BILLING CODE 8025-01-P